DEPARTMENT OF ENERGY

Federal Energy Regulatory Commission

Combined Notice of Filings #1

Take notice that the Commission received the following electric corporate filings:

Docket Numbers: EC16-175-000.

Applicants: Grand View PV Solar Two LLC.

Description: Application for Authorization Under Section 203 of Grand View PV Solar Two LLC.

Filed Date: 8/31/16.

Accession Number: 20160831-5364.

Comments Due: 5 p.m. ET 9/21/16.

Take notice that the Commission received the following electric rate filings:

Docket Numbers: ER10-2641-026; ER10-2663-026; ER10-2881-026; ER10-2882-027; ER10-2883-026; ER10-2884-026; ER10-2885-026; ER10-2886-027; ER13-1101-022; ER13-1541-021; ER14-661-013; ER14-787-015; ER15-54-007; ER15-55-007; ER15-647-004; ER15-1475-008; ER15-2191-003; ER15-2453-003; ER15-2593-007; ER16-452-007; ER16-705-005; ER16-706-005; ER16-1154-005.

Applicants: Oleander Power Project, L.P., Southern Company—Florida LLC, Southern Power Company, Alabama Power Company, Georgia Power Company, Mississippi Power Company, Gulf Power Company, Southern Turner Cimarron I, LLC, Spectrum Nevada Solar, LLC, Campo Verde Solar, LLC, SG2 Imperial Valley LLC, Macho Springs Solar, LLC, Lost Hills Solar, LLC, Blackwell Solar, LLC, Kay Wind, LLC, North Star Solar, LLC, Grant Wind, LLC, Passadumkeag Windpark, LLC, Desert Stateline LLC, RE Tranquillity LLC, RE Garland A LLC, RE Garland LLC, Parrey, LLC.

Description: Errata to August 1, 2016 Notification of Non-Material of Change in Status of Oleander Power Project, Limited Partnership, et al.

Filed Date: 8/31/16.

Accession Number: 20160831-5404.

Comments Due: 5 p.m. ET 9/21/16.

Docket Numbers: ER11-4028-008.

Applicants: Portsmouth Genco, LLC.

Description: Notice of Non-Material Change in Status of Portsmouth Genco, LLC.

Filed Date: 8/31/16.

Accession Number: 20160831-5398.

Comments Due: 5 p.m. ET 9/21/16.

Docket Numbers: ER16-1255-001.

Applicants: Antelope Big Sky Ranch LLC.

Description: Compliance filing: Antelope Big Sky Ranch LLC MBR Tariff to be effective 5/21/2016.

Filed Date: 8/31/16.

Accession Number: 20160831-5158.

Comments Due: 5 p.m. ET 9/21/16.

Docket Numbers: ER16-2522-000.

Applicants: Southwest Power Pool, Inc.

Description: Section 205(d) Rate Filing: 3243 City of Piggott, AR Municipal Light, Water and Sewer NITSA NOA to be effective 8/1/2016.

Filed Date: 8/31/16.

Accession Number: 20160831-5360.

Comments Due: 5 p.m. ET 9/21/16.

Docket Numbers: ER16-2523-000.

Applicants: Southwest Power Pool, Inc.

Description: Section 205(d) Rate Filing: 3244 City of Malden ? Board of Public Works NITSA NOA to be effective 8/1/2016.

Filed Date: 8/31/16.

Accession Number: 20160831-5361.

Comments Due: 5 p.m. ET 9/21/16.

Docket Numbers: ER16-2524-000.

Applicants: Entergy Louisiana, LLC.

Description: Section 205(d) Rate Filing: EES LBA Agreements to be effective 9/1/2016.

Filed Date: 8/31/16.

Accession Number: 20160831-5363.

Comments Due: 5 p.m. ET 9/21/16.

Docket Numbers: ER16-2525-000.

Applicants: PJM Interconnection, L.L.C.

Description: Notice of cancellation of Three Service Agreements of PJM Interconnection, L.L.C.

Filed Date: 8/31/16.

Accession Number: 20160831-5375.

Comments Due: 5 p.m. ET 9/21/16.

Docket Numbers: ER16-2526-000.

Applicants: WSPP Inc.

Description: Section 205(d) Rate Filing: Schedule Q PacifiCorp Normal 2016 to be effective 6/9/2016.

Filed Date: 9/1/16.

Accession Number: 20160901-5037.

Comments Due: 5 p.m. ET 9/22/16.

Docket Numbers: ER16-2527-000.

Applicants: Caprock Solar I LLC.

Description: Baseline eTariff Filing: MBR Tariff and Application to be effective 11/1/2016.

Filed Date: 9/1/16.

Accession Number: 20160901-5049.

Comments Due: 5 p.m. ET 9/22/16.

Docket Numbers: ER16-2528-000.

Applicants: Midcontinent Independent System Operator, Inc.

Description: Section 205(d) Rate Filing: 2016-09-01_SA 6507_Termination of White Pine 1 SSR Agreement to be effective 11/26/2016.

Filed Date: 9/1/16.

Accession Number: 20160901-5057.

Comments Due: 5 p.m. ET 9/22/16.

Docket Numbers: ER16-2529-000.

Applicants: ISO New England Inc., New England Power Pool Participants Committee.

Description: Section 205(d) Rate Filing: Revisions to Net Commitment Period Compensation Calculation for Dual Fuel Audits to be effective 11/1/2016.

Filed Date: 9/1/16.

Accession Number: 20160901-5087.

Comments Due: 5 p.m. ET 9/22/16.

Docket Numbers: ER16-2530-000.

Applicants: Southwest Power Pool, Inc.

Description: Section 205(d) Rate Filing: 2028R9 Sunflower Electric Power Corporation NITSA NOA Notice of Cancellation to be effective 6/1/2016.

Filed Date: 9/1/16.

Accession Number: 20160901-5107.

Comments Due: 5 p.m. ET 9/22/16.

Docket Numbers: ER16-2531-000.

Applicants: NYSEG Solutions, LLC.

Description: Tariff Cancellation: Cancellation to be effective 9/30/2016.

Filed Date: 9/1/16.

Accession Number: 20160901-5146.

Comments Due: 5 p.m. ET 9/22/16.

Docket Numbers: ER16-2532-000.

Applicants: Midcontinent Independent System Operator, Inc.

Description: Section 205(d) Rate Filing: 2016-09-01_Filing to Amend RPU Attachment O and Protocols to be effective 11/1/2016.

Filed Date: 9/1/16.

Accession Number: 20160901-5156.

Comments Due: 5 p.m. ET 9/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2016.
Nathaniel J. Davis, Sr.,
Deputy Secretary.

[FR Doc. 2016-21679 Filed 9-8-16; 8:45 am]

BILLING CODE 6717-01-P